DEPARTMENT OF ENERGY

Federal Energy Regulatory Commission

[Project No. 11843-002]

Gene Arlin Shanks; Notice of Surrender of Preliminary Permit

November 8, 2002.

Take notice that Gene Arlin Shanks, permittee for the proposed Elfin Inian Project, has requested that its preliminary permit be terminated. The permit was issued on December 6, 2000, and would have expired on November 30, 2003. The project would have been located on Elfin Cove near the town of Elfin Cove, Alaska.

The permittee filed the request on August 20, 2002, and the preliminary permit for Project No. 11843 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 02-29140 Filed 11-15-02; 8:45 am]

BILLING CODE 6717-01-P